DEPARTMENT OF THE TREASURY

Community Development Financial Institutions Fund

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Community Development Financial Institutions Fund (the “CDFI Fund”) within the Department of the Treasury is soliciting comments concerning the Community Development Financial Institutions (“CDFI”) Program: Certification/Re-certification Application located at http://www.cdfifund.gov.

DATES: Written comments should be received on or before September 27, 2011 to be assured of consideration.

ADDRESSES: Direct all comments to Erin McKevitt, Acting Certification, Compliance Monitoring and Evaluation Manager, Community Development Financial Institutions Fund, U.S. Department of the Treasury, 601 13th Street, NW., Suite 200 South, Washington, DC 20005, Facsimile Number (202) 622-7754.

FOR FURTHER INFORMATION CONTACT: The Certification/Re-certification application may be obtained from the CDFI Fund's Web site at http://www.cdfifund.gov. Requests for additional information should be directed to Erin McKevitt, Acting Certification, Compliance Monitoring and Evaluation Manager, Community Development Financial Institutions Fund, U.S. Department of the Treasury, 601 13th Street, NW., Suite 200 South, Washington, DC 20005, or call (202) 622-8662. This is not a toll free number.

SUPPLEMENTARY INFORMATION: Title: The Community Development Financial Institutions Program—Certification/Re-Certification Application.

OMB Number: 1559-0028.

Abstract: The purpose of the CDFI Program is to promote economic revitalization and community development through investment in and assistance to certified CDFIs and entities seeking CDFI certification. Through the CDFI Program, the CDFI Fund makes financial investments in and provides technical assistance grants to CDFIs and organizations seeking CDFI certification that have comprehensive business plans for creating demonstrable community development impact through the deployment of capital within their respective target markets for community development finance purposes. In order to be certified as a CDFI, an entity must submit an application for certification to the CDFI Fund.

Type of review: Extension.

Affected Public: Not-for-profit institutions, businesses or other for-profit institutions and tribal entities.

Estimated Number of Respondents: 300.

Estimated Annual Time per Respondent: 37.5 hours.

Estimated Total Annual Burden Hours: 11,250 hours.

Requests for Comments: Comments submitted in response to this notice will be summarized and/or included in the request for OMB approval. All comments will become a matter of public record. Comments are invited on: (a) Whether the collection of information is necessary for the proper performance of the functions of the CDFI Fund, including whether the information shall have practical utility; (b) the accuracy of the CDFI Fund's estimate of the burden of the collection of information; (c) ways to enhance the quality, utility, and clarity of the information to be collected; (d) ways to minimize the burden of the collection of information on respondents, including through the use of technology; (e) estimates of capital or start-up costs and costs of operation, maintenance, and purchase of services to provide information; and (f) ways to minimize the burden of creating maps with contiguous census tracts as a requirement for Investment Area Target Markets.

Authority: 12 U.S.C. 4703, 4703 note, 4704, 4706, 4707, 4717; 12 CFR part 1805.

Dawn D. Wolfgang,
Treasury PRA Clearance Officer.

[FR Doc. 2011-19194 Filed 7-28-11; 8:45 am]

BILLING CODE 4810-70-P